DEPARTMENT OF THE INTERIOR

Fish and Wildlife Service

[FWS-HQ-IA-2013-N185; FXIA16710900000P5-123-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and [Marine Mammal Protection Act (MMPA) prohibit activities with listed species unless Federal authorization is acquired that allows such activities.

DATES: We must receive comments or requests for documents on or before September 16, 2013. We must receive requests for marine mammal permit public hearings, in writing, at the address shown in the ADDRESSES section by September 16, 2013.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: University of South Carolina, Columbia, SC; PRT-73008A

The applicant requests amendment and renewal of the permit to import biological specimens collected from nesting female and hatchling hawksbill sea turtles (Eretmochelys imbricata) on or near Long Island, Antigua, and on or near 11-Mile Beach, Barbados, for the purpose of scientific research. This notification covers activities to be conducted by the applicant over a 5-year period.

Applicant: Zoological Society of San Diego, San Diego, CA; PRT-08827B

The applicant requests a permit to re-import a live female African elephant (Loxodonta africana) born in the wild for the purpose of enhancement of the survival of the species from Franklin Zoo & Wildlife Sanctuary, c/o Auckland Zoo, Auckland, New Zealand.

Applicant: Jeffrey Dundek, Palos Park, IL; PRT-12356B

The applicant requests a captive-bred wildlife registration under 50 CFR 17.21(g) for the radiated tortoise (Astrochelys radiata) to enhance the species' propagation or survival. This notification covers activities to be conducted by the applicant over a 5-year period.

Applicant: Pinto Ranch, Hunt, TX; PRT-13263B

The applicant requests a captive-bred wildlife registration under 50 CFR 17.21(g) for barasingha (Rucervus duvaucelii), Eld's deer (Rucervus eldii), scimitar-horned oryx (Oryx dammah), Arabian oryx (Oryx leucoryx), addax (Addax nasomaculatus), dama gazelle (Nanger dama), and red lechwe (Kobus leche) to enhance the species propagation or survival. This notification covers activities to be conducted by the applicant over a 5-year period.

Applicant: Pinto Ranch, Hunt, TX; PRT-13254B

The applicant requests a permit authorizing interstate and foreign commerce, export, and cull of excess barasingha (Rucervus duvaucelii), scimitar-horned oryx (Oryx dammah), Arabian oryx (Oryx leucoryx), addax (Addax nasomaculatus), and red lechwe (Kobus leche) from the captive herd maintained at their facility, for the purpose of enhancement of the survival of the species. This notification covers activities over a 5-year period.

Applicant: Dakota Zoological Society, Bismarck, ND; PRT-176086

The applicant requests renewal of their captive-bred wildlife registration under 50 CFR 17.21(g) for the following species in the Cebidae family—Cotton-top tamarin (Saguinus oedipus), snow leopard (Uncia uncia), and red-ruffed lemur (Varecia rubra)—to enhance their propagation or survival. This notification covers activities to be conducted by the applicant over a 5-year period.

Applicant: William Burnett, North Little Rock, AR; PRT-034480

The applicant requests renewal of their captive-bred wildlife registration under 50 CFR 17.21(g) for spotted pond turtle (Geoclemys hamiltonii) and radiated tortoise (Geochelone radiata), to enhance their propagation or survival. This notification covers activities to be conducted by the applicant over a 5-year period.

Applicant: Omaha's Henry Doorly Zoo, Omaha, NE; PRT-10967B

The applicant requests a permit to import a captive-bred Malayan tapir (Tapirus indicus) for the purpose of enhancement of the survival of the species.

Applicant: John Klauss, Pipe Creek, TX; PRT-13560B

The applicant requests a captive-bred wildlife registration under 50 CFR 17.21(g) for barasingha (Rucervus duvaucelii), Eld's deer (Rucervus eldii), scimitar-horned oryx (Oryx dammah), Arabian oryx (Oryx leucoryx), addax (Addax nasomaculatus), dama gazelle (Nanger dama), and red lechwe (Kobus leche), to enhance the species' propagation or survival. This notification covers activities to be conducted by the applicant over a 5-year period.

Applicant: John Klauss, Pipe Creek, TX; PRT-13559B

The applicant requests a permit authorizing interstate and foreign commerce, export, and cull of excess addax (Addax nasomaculatus) from the captive herd maintained at their facility, for the purpose of enhancement of the survival of the species. This notification covers activities over a 5-year period.

Applicant: Fresno Chaffee Zoo, Fresno, CA; PRT-690128

The applicant requests renewal of their captive-bred wildlife registration under 50 CFR 17.21(g) for the following families to enhance their propagation or survival. This notification covers activities to be conducted by the applicant over a 5-year period.

Families:

Bovidae

Cebidae

Cercopithecidae

Felidae (does not include jaguar, margay, or ocelot)

Hylobatidae

Lemuridae

Tapiridae

Boidae (does not include Mona boa or Puerto Rico boa)

Gekkonidae

Multiple Applicants

The following applicants each request a permit to import the sport-hunted trophy of one male bontebok (Damaliscus pygargus pygargus) culled from a captive herd maintained under the management program of the Republic of South Africa, for the purpose of enhancement of the survival of the species.

Applicant: Dale James, Lesterville, SD; PRT-12915B;

Applicant: Anthony Gaglio, Stamford, CT; PRT-13216B;

Applicant: Shane Erving, Billings, MT; PRT-13270B.

B. Endangered Marine Mammals and Marine Mammals

Applicant: Bristol Bay Native Association, Dillingham, AK; PRT-05664B

The applicant requests a permit to conduct population surveys which could cause Level B harassment of northern sea otters (Enhydra lutris kenyoni) along the coasts of Bristol Bay and the Alaskan Peninsula, Alaska, for the purpose of scientific research. This notification covers activities to be conducted by the applicant over a 3-year period.

Concurrent with publishing this notice in the Federal Register, we are forwarding copies of the above applications to the Marine Mammal Commission and the Committee of Scientific Advisors for their review.

Brenda Tapia,
Program Analyst/Data Administrator, Branch of Permits, Division of Management Authority.

[FR Doc. 2013-19919 Filed 8-15-13; 8:45 am]

BILLING CODE 4310-55-P